Presidential Determination No. 2004-05 of October 21, 2003

Presidential Determination on the Sudan Peace Act

Memorandum for the Secretary of State

Consistent with section 6(b) (1) (A) of the Sudan Peace Act (Public Law 107-245), I hereby determine and certify that the Government of Sudan and the Sudan People's Liberation Movement are negotiating in good faith and that negotiations should continue. You are authorized and directed to notify the Congress of this determination and to arrange for its publication in the Federal Register.

B

THE WHITE HOUSE,

Washington, October 21, 2003.

[FR Doc. 03-28359

Filed 11-07-03; 8:45 am]

Billing code 4710-10-P